NUCLEAR REGULATORY COMMISSION

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

1. Type of submission, new, revision, or extension: Extension.

2. The title of the information collection: Requests to Non-Agreement States for Information.

3. The form number if applicable: Not applicable.

4. How often the collection is required: 6 times per year.

5. Who will be required or asked to report: The 18 States (16 Non-Agreement States and 2 territories, the District of Columbia and the Commonwealth of Puerto Rico) that have not signed 274(b) Agreements with NRC. Note: Minnesota became an Agreement State effective March 31, 2006.

6. An estimate of the number of annual responses: 108.

7. The estimated number of annual respondents: 18 States (16 Non-Agreement States and 2 territories, the District of Columbia and Commonwealth of Puerto Rico).

8. An estimate of the total number of hours needed annually to complete the requirement or request: 891 hours.

9. An indication of whether section 3507(d), Public Law 104-13 applies: Not applicable.

10. Abstract: Requests may be made of States that are similar to those of Agreement States to provide a more complete overview of the national program for regulating radioactive materials. This information would be used in the decisionmaking of the Commission. With Agreement States and as part of the NRC cooperative post-agreement program with the States pursuant to section 274(b), information on licensing and inspection practices, and/or incidents, and other technical and statistical information are exchanged. Agreement State comments are also solicited in the areas of proposed implementing procedures relative to NRC Agreement State program policies. With the enactment of the Energy Policy Act of 2005, specifically section 651(e), NRC now has regulatory authority over use of accelerator-produced radioactive materials and discrete sources of radium-226 and other naturally occurring radioactive material as specified by the Commission. Therefore, information requests sought may take the form of surveys, e.g., telephonic and electronic surveys/polls and facsimiles.

A copy of the final supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions should be directed to the OMB reviewer listed below by May 18, 2006. Comments received after this date will be considered if it is practical to do so, but assurance of consideration cannot be given to comments received after this date.

John A. Asalone, Office of Information and Regulatory Affairs (3150-0200), NEOB-10202, Office of Management and Budget, Washington, DC 20503.

Comments can also be e-mailed to John_A._Asalone@omb.eop.gov or submitted by telephone at (202) 395-4650.

The NRC Clearance Officer is Brenda Jo. Shelton, 301-415-7233.

Dated at Rockville, Maryland, this 11th day of April, 2006.
For the Nuclear Regulatory Commission.
Brenda Jo. Shelton,
NRC Clearance Officer, Office of Information Services.

[FR Doc. E6-5743 Filed 4-17-06; 8:45 am]

BILLING CODE 7590-01-P